DEPARTMENT OF THE INTERIOR

Bureau of Indian Affairs

[245A2100DD/AAKC001030/A0A501010.999900]

Indian Gaming; Extension of Tribal-State Class III Gaming Compacts in California

AGENCY: Bureau of Indian Affairs, Interior.

ACTION: Notice.

SUMMARY: This notice announces the extension of the Class III gaming compacts between several Tribes in California and the State of California.

DATES: The extension takes effect December 22, 2023.

FOR FURTHER INFORMATION CONTACT: Ms. Paula L. Hart, Director, Office of Indian Gaming, Office of the Assistant Secretary—Indian Affairs, Washington, DC 20240, IndianGaming@bia.gov; (202) 219-4066.

SUPPLEMENTARY INFORMATION: An extension to an existing Tribal-State Class III gaming compact does not require approval by the Secretary if the extension does not modify any other terms of the compact. 25 CFR 293.5. The following Tribes and the State of California have reached an agreement to extend the expiration date of their existing Tribal-State Class III gaming compacts to December 31, 2024: the Augustine Band of Cahuilla Indians, California; the Big Sandy Rancheria of Western Mono Indians of California; the Cachil DeHe Band of Wintun Indians of the Colusa Indian Community of the Colusa Rancheria, California; the Cahto Tribe of the Laytonville Rancheria; the Cahuilla Band of Indians; the Campo Band of Diegueno Mission Indians of the Campo Indian Reservation, California; the Cher-Ae Heights Indian Community of the Trinidad Rancheria, California; and the Pauma Band of Luiseño Mission Indians of the Pauma & Yuima Reservation, California. This publication provides notice of the new expiration date of the compacts.

Bryan Newland,
Assistant Secretary—Indian Affairs.

[FR Doc. 2023-28198 Filed 12-21-23; 8:45 am]

BILLING CODE 4337-15-P